DEPARTMENT OF EDUCATION

National Institute on Disability and Rehabilitation Research (NIDRR)—Disability and Rehabilitation Research Projects and Centers Program—Disability Rehabilitation Research Project (DRRP)—International Exchange of Knowledge and Experts in Disability and Rehabilitation Research

Catalog of Federal Domestic Assistance (CFDA) Number: 84.133A-6.

AGENCY: Office of Special Education and Rehabilitative Services, Department of Education.

ACTION: Notice of proposed priority for a DRRP.

SUMMARY: The Assistant Secretary for Special Education and Rehabilitative Services proposes a priority for the Disability and Rehabilitation Research Projects and Centers Program administered by NIDRR. Specifically, this notice proposes a priority for a DRRP. The Assistant Secretary may use this priority for a competition in fiscal year (FY) 2010 and later years. We take this action to focus research attention on areas of national need. We intend this priority to improve rehabilitation services and outcomes for individuals with disabilities.

DATES: We must receive your comments on or before June 14, 2010.

ADDRESSES: Address all comments about this notice to Marlene Spencer, U.S. Department of Education, 400 Maryland Avenue, SW., Room 5133, Potomac Center Plaza, Washington, DC 20202-2700.

If you prefer to send your comments by e-mail, use the following address: marlene.spencer@ed.gov. You must include “Proposed Priority for a DRRP on International Exchange of Knowledge and Experts” in the subject line of your electronic message.

FOR FURTHER INFORMATION CONTACT: Marlene Spencer. Telephone: (202) 245-7532 or by e-mail: marlene.spencer@ed.gov.

If you use a telecommunications device for the deaf (TDD), call the Federal Relay Service (FRS), toll free, at 1-800-877-8339.

SUPPLEMENTARY INFORMATION: This notice of proposed priority is in concert with NIDRR's Final Long-Range Plan for FY 2005-2009 (Plan). The Plan, which was published in the Federal Register on February 15, 2006 (71 FR 8165), can be accessed on the Internet at the following site: http://www.ed.gov/about/offices/list/osers/nidrr/policy.html.

Through the implementation of the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

This notice proposes a priority that NIDRR intends to use for DRRP competitions in FY 2010 and possibly later years. However, nothing precludes NIDRR from publishing additional priorities, if needed. Furthermore, NIDRR is under no obligation to make an award for this priority. The decision to make an award will be based on the quality of applications received and available funding.

Invitation to Comment: We invite you to submit comments regarding this notice. To ensure that your comments have maximum effect in developing the notice of final priority, we urge you to identify clearly the specific topic that each comment addresses.

We invite you to assist us in complying with the specific requirements of Executive Order 12866 and its overall requirement of reducing regulatory burden that might result from this proposed priority. Please let us know of any further ways we could reduce potential costs or increase potential benefits while preserving the effective and efficient administration of the program.

During and after the comment period, you may inspect all public comments about this proposed priority in room 5133, 550 12th Street, SW., Potomac Center Plaza, Washington, DC, between the hours of 8:30 a.m. and 4 p.m., Washington, DC time, Monday through Friday of each week except Federal holidays.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The purpose of the Disability and Rehabilitation Research Projects and Centers Program is to plan and conduct research, demonstration projects, training, and related activities, including international activities, to develop methods, procedures, and rehabilitation technology, that maximize the full inclusion and integration into society, employment, independent living, family support, and economic and social self-sufficiency of individuals with disabilities, especially individuals with the most severe disabilities, and to improve the effectiveness of services authorized under the Rehabilitation Act of 1973, as amended (Rehabilitation Act).

Program Authority: 29 U.S.C. 762(g) and 764(b)(6).

Applicable Program Regulations: 34 CFR part 350.

Proposed Priority:

This notice contains one proposed priority. International Exchange of Knowledge and Experts in Disability and Rehabilitation Research.

Background

The Rehabilitation Act provides that NIDRR may award grants to conduct a program for international rehabilitation research, demonstration, and training (29 U.S.C. 764(b)(6)). The purposes of NIDRR's international disability and rehabilitation research program are to—

1. Develop new knowledge and methods in the rehabilitation of individuals with disabilities in the United States;

2. Cooperate with and assist in developing and sharing information found useful in other nations in the rehabilitation of individuals with disabilities; and

3. Initiate a program to exchange experts and technical assistance in the field of rehabilitation of individuals with disabilities with other nations as a means of increasing the levels of skill of rehabilitation personnel.

The international program is a component of NIDRR's overall knowledge translation (KT) effort. NIDRR adopted the conceptual framework of KT to help guide its efforts to promote the effective use of high-quality findings from disability and rehabilitation research and development (R&D). In this regard, KT refers to a multidimensional, active process of ensuring that new knowledge and products gained via R&D will be used to improve the lives of individuals with disabilities and to promote their full participation in society. KT includes the assessment of research findings to ensure that information to be disseminated is based on scientifically rigorous research and is relevant to key stakeholders (e.g., rehabilitation service providers, educators, clinicians, and individuals with disabilities and their families). We have incorporated these core elements into this proposed priority.

For more than two decades, NIDRR has promoted the sharing of information and products generated by disability and rehabilitation R&D in the United States (U.S.) and other countries. For example, NIDRR has sponsored the development of the Database of International Rehabilitation Research at the Center for International Rehabilitation Research Information and Exchange (CIRRIE, 2009). This database includes almost 90,000 citations from international rehabilitation research projects conducted outside of the U.S. (CIRRIE, 2009). It has been used as a source of data for systematic reviews on diverse disability and rehabilitation topics, such as virtual reality training applications (Erren-Wolters, van Dijk, de Kort, Ijzerman, & Jannink, 2007) and best practices for treating individuals with hip fracture (Beaupre, Jones, Saunders, Johnston, Buckingham, & Majumdar, 2005).

NIDRR funding of international R&D activities also has led to new methods for providing access to prosthetics (Wu, Casanova, & Smith, 2004) and wheelchairs (Armstrong, Reisinger, & Smith, 2007) for individuals with disabilities in developing countries. Additionally, NIDRR has sponsored the exchange of researchers between the U.S. and other countries to share international perspectives on the experience of individuals with disabilities and on the research approaches for creating knowledge to promote the independence and well being of individuals with disabilities (see CIRRIE, 2009).

The knowledge base generated by disability and rehabilitation researchers is growing in the U.S. and in other countries. New and improved methods for the efficient international exchange of this information and expertise will help shape future disability and rehabilitation R&D and will facilitate research-based rehabilitation practice in the U.S. and in other countries.

References

Armstrong, W., Reisinger, K., & Smith, W. (2007). Evaluation of CIR-whirlwind wheelchair and service provision in Afghanistan. Disability and Rehabilitation, 29(11-12), 935-948.

Beaupre, L., Jones, C., Saunders, L., Johnston, D., Buckingham, J., & Majumdar, S. (2005). Best practices for elderly hip fracture patients: A systematic overview of the evidence. Journal of General Internal Medicine, 20(11), 1019-1025.

CIRRIE. (2009). Center for International Rehabilitation Research Information and Exchange. See http://cirrie.buffalo.edu/index.php.

Erron-Wolters, C., Van Dijk, H., de Kort, A., Ijzerman, M., & Jannink, M. (2007). Virtual reality for mobility devices: Training applications and clinical results: A review. International Journal of Rehabilitation Research, 30, 91-96.

Wu, Y., Casanova, H., Smith, W. (2004). CIR casting system: A new approach for making transtibial sockets. Technical Brief, from REHABDATA database. See http://www.naric.com/research/record.cfm?search=2&rec=103139.

Proposed Priority: The Assistant Secretary for Special Education and Rehabilitative Services proposes a priority for a Disability and Rehabilitation Research Project (DRRP) to serve as a Center for International Exchange of Knowledge and Experts in Disability and Rehabilitation Research (Center). This Center must promote improved education, employment, health, and community living outcomes for individuals with disabilities by developing and implementing methods for the international exchange of knowledge generated by disability and rehabilitation research and development (R&D). Under this priority, the Center must contribute to the following outcomes:

(a) A well-maintained, publicly accessible, and searchable database containing citations of publications from disability and rehabilitation R&D that was conducted in other countries. The Center must contribute to this outcome by assuming the operation of an existing database presently operated by the Center for International Rehabilitation Research Exchange (CIRRIE). The Center must establish sound strategies and approaches to ensure that the database is comprehensive, easy to use, and up-to-date at all times.

(b) Improved methods for the identification and domestic dissemination of findings from R&D generated by disability and rehabilitation R&D personnel in other countries. The Center must contribute to this outcome by developing or identifying, evaluating, and applying methods for the identification of research findings to be disseminated in the U.S. The application of these methods must lead to information on the methodological rigor with which the R&D was conducted, as well as the relevance of findings to U.S. stakeholders (e.g., researchers, rehabilitation service providers, educators, clinicians, and individuals with disabilities and their families). The Center also must identify or develop, and then evaluate and implement, sustainable methods for domestic dissemination of relevant findings produced by disability and rehabilitation R&D personnel from other countries. Given the breadth of disability and rehabilitation R&D conducted in countries outside of the U.S. and the large number of countries or global regions that produce disability and rehabilitation R&D, applicants must propose and justify the specific substantive area of disability and rehabilitation research upon which they will focus. Applicants must also propose and justify the countries or global regions they will target as the sources of disability and rehabilitation R&D.

(c) Improved cross-cultural and cross-national awareness and expertise among personnel from NIDRR-funded grants. The Center must contribute to this outcome by administering an international exchange of R&D personnel from NIDRR-funded projects and disability and rehabilitation R&D personnel from other countries. The Center must establish criteria for reviewing and selecting personnel to participate in the exchange. These criteria must emphasize the extent to which proposed exchanges will promote cross-cultural and cross-national awareness and expertise among NIDRR grantees and contribute to the quality and relevance of disability and rehabilitation research conducted in the U.S.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Priority: We will announce the final priority in a notice in the Federal Register. We will determine the final priority after considering responses to this notice and other information available to the Department. This notice does not preclude us from proposing additional priorities, requirements, definitions, or selection criteria, subject to meeting applicable rulemaking requirements.

Note: This notice does not solicit applications. In any year in which we choose to use this priority, we invite applications through a notice in the Federal Register.

Executive Order 12866: This notice has been reviewed in accordance with Executive Order 12866. Under the terms of the order, we have assessed the potential costs and benefits of this proposed regulatory action.

The potential costs associated with this proposed regulatory action are those resulting from statutory requirements and those we have determined as necessary for administering this program effectively and efficiently.

In assessing the potential costs and benefits—both quantitative and qualitative—of this proposed regulatory action, we have determined that the benefits of the proposed priority justify the costs.

Discussion of Costs and Benefits: The benefits of the Disability and Rehabilitation Research Projects and Centers Programs have been well established over the years in that similar projects have been completed successfully. This proposed priority will generate new knowledge through research and development. Another benefit of this proposed priority is that the establishment of a new DRRP will improve the lives of individuals with disabilities. The new DRRP will generate, disseminate, and promote the use of new information that will improve the options for individuals with disabilities to perform regular activities in the community.

Intergovernmental Review: This program is not subject to Executive Order 12372 and the regulations in 34 CFR part 79.

Accessible Format: Individuals with disabilities can obtain this document in an accessible format (e.g., braille, large print, audiotape, or computer diskette) by contacting the Grants and Contracts Services Team, U.S. Department of Education, 400 Maryland Avenue, SW., room 5075, PCP, Washington, DC 20202-2550. Telephone: (202) 245-7363. If you use a TDD, call the FRS, toll free, at 1-800-877-8339.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: May 11, 2010.
Alexa Posny,
Assistant Secretary for Special Education and Rehabilitative Services.

[FR Doc. 2010-11618 Filed 5-13-10; 8:45 am]

BILLING CODE 4000-01-P